DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Teleconference Meeting.

SUMMARY: The Board of Visitors for the National Fire Academy (Board) will meet on April 25 and 26, 2012. The meeting will be open to the public.

DATES: The meeting will take place Wednesday, April 25, 2012, from 8:30 a.m. to 5 p.m. EST, and Thursday, April 26, 2012, from 8:30 a.m. to 1:30 p.m. EST. Please note that the meeting may close early if the Board has completed its business.

ADDRESSES: The meeting will be held at the National Emergency Training Center, Building H, Room 300, Emmitsburg, Maryland. Members of the public who wish to obtain details on how to gain access to the facility and directions may contact Ruth MacPhail as listed in the FOR FURTHER INFORMATION CONTACT section by close of business April 20, 2012. A picture identification is needed for access. For information on services for individuals with disabilities or to request special assistance, contact Ruth MacPhail as soon as possible.

To facilitate public participation, we are inviting public comment on the issues to be considered by the Board as listed in the SUPPLEMENTARY INFORMATION section. Comments must be submitted in writing no later than April 20, 2012, and must be identified by docket ID FEMA-2008-0010 and may be submitted by one of the following methods:

• Federal eRulemaking Portal: http://www.regulations.gov. Follow the instructions for submitting comments.

• Email: FEMA-RULES@dhs.gov. Include the docket ID in the subject line of the message.

• Fax: 703-483-2999.

• Mail: Ruth MacPhail, 16825 South Seton Avenue, Emmitsburg, Maryland 21727.

Instructions: All submissions received must include the docket ID for this action. Comments received will be posted without alteration at http://www.regulations.gov, including any personal information provided.

Docket: For access to the docket to read background documents or comments received by the Board, go to http://www.regulations.gov.

Public comments will be requested prior to discussion and deliberation of each agenda item. Speakers will be afforded 5 minutes to make comments. Contact Ruth MacPhail to register as a speaker.

FOR FURTHER INFORMATION CONTACT: Ruth MacPhail, 16825 South Seton Avenue, Emmitsburg, Maryland 21727, telephone (301) 447-1117, fax (301) 447-1173, and email ruth.macphail@fema.dhs.gov.

SUPPLEMENTARY INFORMATION: Notice of this meeting is given under the Federal Advisory Committee Act, 5 U.S.C. App. (Pub. L. 92- 463).

Purpose of the Board

The purpose of the Board is to review annually the programs of the National Fire Academy (Academy) and advise the Administrator of the Federal Emergency Management Agency (FEMA), through the United States Fire Administrator, regarding the operation of the Academy and any improvements therein that the Board deems appropriate. The Board makes interim advisories to the Administrator of FEMA, through the United States Fire Administrator, whenever there is an indicated urgency to do so in fulfilling its duties. In carrying out its responsibilities, the Board examines Academy programs to determine whether these programs further the basic missions which are approved by the Administrator of FEMA, examines the physical plant of the Academy to determine the adequacy of the Academy's facilities, and examines the funding levels for Academy programs. The Board submits an annual report through the United States Fire Administrator to the Administrator of FEMA, in writing. The report provides detailed comments and recommendations regarding the operation of the Academy.

Agenda

The Board will review and approve the minutes of the February 21, 2012, meeting. The Board will review Academy program activities including Academy online courses, the development of new online courses, current curriculum, anticipated FY 2012 curriculum developments, and the preliminary agenda for the June, 2012, FESHE conference. The Academy will report on the progress of the American Council on Education (ACE) review findings, prerequisites for acceptance into the Executive Fire Officer Program (EFOP), and a new Student Identification Number (SIN) procedure being implemented through the NFA Admissions process.

The Board will review the status of the Fire and Emergency Services Higher Education (FESHE) Recognition program and the status of Training Resources and Data Exchange (TRADE)/FESHE Adobe Connect sessions. The Board will discuss deferred maintenance and capital improvements on the NETC campus, to include FY 2012 Budget Planning, and National Fire Programs update. The Board will review and consider reports from the Applicant Outreach Subcommittee and FESHE/Professional Development Subcommittee.

The Board will tour the National Fire Academy physical plant to assess facility upgrades and plans for continued improvements and will observe Academy classes in session.

After deliberation, the Board will recommend actions to the Superintendent of the National Fire Academy and the Administrator of FEMA.

Dated: April 4, 2012.
Denis G. Onieal,
Superintendent, National Fire Academy, United States Fire Administration, Federal Emergency Management Agency.

[FR Doc. 2012-8622 Filed 4-9-12; 8:45 am]

BILLING CODE 9111-45-P